DEPARTMENT OF AGRICULTURE

Forest Service

Plumas National Forest, Feather River Ranger District, CA; Sugarberry Project

AGENCY: Forest Service, USDA.

ACTION: Notice of intent to prepare an environmental impact statement.

SUMMARY: The USDA Forest Service will prepare an environmental impact statement to disclose the environmental effects resulting from construction of fuel breaks known as defensible fuel profile zones (DFPZs); harvest and reforestation of timber stands; enhancement of black oak and aspen stands; improvement of aquatic and wildlife habitat; underburning rare plants occurrences; and road construction, reconstruction, and decommissioning.

DATES: Comments concerning the scope of the analysis must be received within 30 days of the publication of this notice in the Federal Register. The draft environmental impact statement is expected by December 2006, and the final environmental impact statement is expected by April 2007.

ADDRESSES: Send written comments to James M Peña, Forest Supervisor, Plumas National Forest, P.O. Box 11500, 159 Lawrence Street, Quincy, CA 95971-6025. Comments may be (1) mailed to the Responsible Official; (2) hand-delivered between the hours of 8 a.m.-4;30 p.m., Monday through Friday, excluding holidays; (3) faxed to (530) 283-7746; or (4) electronically mailed to: comments-pacificsouthwest-plumas@fs.fed.us.

FOR FURTHER INFORMATION CONTACT: Susan Joyce, Project Leader, Feather River District, 875 Mitchell Avenue, Oroville, CA 95965, or call (530) 534-6500.

SUPPLEMENTARY INFORMATION: The Sugarberry Project area is located within the Feather River Danger District of the Plumas National Forest in Yuba, Sierra and Plumas Counties. Encompassing approximately 45,000 acres, the project area is located south and east of Little Grass Valley Reservoir, from Gibsonville Ridge in the north to the North Yuba River in the south. Treatment units range in elevation from 2,400 to 6,500 feet above sea level. Communities in and near the project area include Clipper Mills, Strawberry Valley, and La Porte.

The Sugarberry Project is proposed as part of a broad resource management program to promote the ecological health of lands and economic health and stability of communities in the northern Sierra Nevada under the authority of the Herger-Feinstein Quincy Library Group Forest Recovery Act (HFQLG Act).

Purpose and Need for Action

The Forest Service has identified the following project objectives: (1) Protect rural communities and forest ecosystems from high-intensity wildfires; (2) promote a healthy all-aged, multistoried, fire-resilient forest; (3) contribute to the stability and economic health of rural communities; (4) promote the health of unique plant communities; and (5) promote healthy aquatic and riparian ecosystems.

Proposed Action

To achieve project objectives, the Forest Service proposes to construct approximately 2,100 acres of fuelbreaks known as Defensible Fuel Profile Zones (DFPZ). A DFPZ is a strategically located strip of land approximately ¼ mile in width on which fuels, both living and dead, have been modified in order to reduce the potential for sustained crown fire and to allow fire suppression personnel a safer location from which to take action against a wildfire. The DFPZs in the Sugarberry Project would be part of a larger, strategic system of DFPZs on the Plumas National Forest, adjacent private lands, and other national forests.

Proposed DFPZs are located primarily on ridges with tree crowns spaced at a distance that reduces the potential for crown fire spread (generally 40 percent canopy cover). DFPZs would be constructed through mechanical thinning and biomass removal on approximately 400 acres, mastication on approximately 300 acres, underburning on approximately 1,400 acres, and hand cutting, piling, and burning on approximately 40 acres.

The Forest Service proposes to harvest approximately 30 million board feet of timber from group selection units (1,300 acres), individual tree selection units (300 acres), and DFPZ mechanical thinning units (400 acres). Group selection involves harvest of trees less than 30-inches in diameter from small (one-half to two acres) groups. Over time, this would create an uneven-aged (all-aged) forests made up of a patchwork of small groups of same-aged trees. Individual tree selection harvest would combine removal of diseased or otherwise unhealthy trees with thinning from below to improve forest health and favor fire resilient tree species. Existing and temporary roads would be needed to access timber and DFPZ treatment areas. An estimated 27 miles of existing road would be reconstructed with 3 additional miles of new classified road construction and 12 miles of new temporary spur construction. Another estimated 5 miles of road, no longer in use or needed, would be decommissioned or closed by various methods, such as ripping and seeding, re-contouring, and installing barriers. Projects that promote the health of unique plant communities include enhancement of approximately 100 acres of black oak stands and 20 acres of aspen stands, along with underburning occurrences of the rare clustered lady's slipper on 5-10 acres and monitoring results.

Aquatic and riparian restoration projects include restoring and enhancing aquatic, native plant, and riparian habitat by replacing or upgrading six culverts; restoring meadows; stabilizing stream channels and banks; and constructing one sediment settling pond.

Responsible Official

James M. Peña, Forest Supervisor, P.O. Box 11500, 159 Lawrence Street, Quincy, CA 95971-6025 is the Responsible Official.

Nature of Decision To Be Made

The Responsible Official will decide whether to implement this proposal, an alternative design that moves the project area towards the desired condition, or not to implement any project at this time.

Scoping Process

Public questions and comments regarding this proposal are an integral part of this environmental analysis process. Comments will be used to identify issues and develop alternatives to the proposed action. To assist the Forest Service in identifying and considering issues and concerns related to the proposed actions, comments should be as specific as possible.

Information about the proposed action will be mailed to adjacent landowners, as well as to those people and organizations that have indicated a specific interest in the project, to Native American entities, and Federal, state, and local agencies. The public will be notified of any meetings regarding this proposal by mailings and press releases sent to local newspaper and media. A meeting in a community in the project area is planned for July 2006, although specific information is not available at this time.

Preliminary Issues

The following preliminary issues have been identified for this proposal: (a) Impacts from ground disturbing activities within watersheds that may be approaching or over the threshold of concern, (b) potential impacts on soil productivity and soil hydrologic function of erodible or easily compacted soils, (c) economic feasibility of the project due to high treatment and regeneration costs, and (d) alteration of habitat components utilized by the California spotted owl, e.g., canopy cover and medium to large trees. Continued analysis will determine the relevance of preliminary issues. Additional issues may be identified during the scoping process.

Permits or Licenses Required

No Federal permits, licenses, or entitlements are necessary to implement the proposed project. State requirements, based on Federal laws, and administered by the County Agricultural Commissioner for air quality management will be followed. These requirements include burning only on permissive burn days or receiving a special variance prior to ignition. Smoke permits are required from the Northern Sierra and Feather River Air Quality Management Districts (AQMD) prior to any understory or pile burning. Timber Harvest Activity Waivers are required from the California Regional Water Quality Control Board.

Comment Requested

This notice of intent initiates the scoping proces which guides the development of the environmental impact statement. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of theser court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and disucssed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 14, 2006.
Michael Condon,
Acting Forest Supervisor.

[FR Doc. 06-5546 Filed 6-20-06; 8:45 am]

BILLING CODE 3410-11-M